DEPARTMENT OF AGRICULTURE

Commodity Credit Corporation

Rural Business-Cooperative Service

[Docket No. RBS-22-BUSINESS-0006]

Higher Blends Infrastructure Incentive Program (HBIIP); Correction

AGENCY: Commodity Credit Corporation and the Rural Business-Cooperative Service, Department of Agriculture (USDA).

ACTION: Notice; correction.

SUMMARY: The Commodity Credit Corporation (CCC) and the Rural Business-Cooperative Service (RBCS or the Agency) published a Funding Opportunity Announcement (FOA) in the Federal Register of August 23, 2022, entitled Higher Blends Infrastructure Incentive Program (HBIIP) to announce that it was accepting applications for fiscal year 2022 (FY 22) and the availability of approximately $100 million in competitive grants. In addition, the FOA defined requirements that are determined at the time a funding announcement is published, as outlined in the regulation. The FOA omitted clarifying information regarding eligible applicants for the funding. The Eligible Applicants section is being updated to clarify that hybrid applications, or those including transportation fueling facility implementation activities and fuel distribution facilities implementation activities, are ineligible. This Notice clarifies that applicants can only apply for one of the two applicant types and those successful applicants will only receive the funding associated with one applicant type.

FOR FURTHER INFORMATION CONTACT: Jeff Carpenter, email HigherBlendsGrants-access@usda.gov, telephone: (402) 318-8195.

SUPPLEMENTARY INFORMATION:

Correction

In the Federal Register of August 23, 2022 in FR Doc. 2022-18123 on page 51642 in the third column, under III. Eligibility Information, correct the A. Eligible Applicants. caption to read:

A. Eligible Applicants

Owners of transportation fueling facilities and owners of fuel distribution facilities located in the United States and its territories may apply for this program. Eligible entities include: fueling stations, convenience stores, hypermarket retailer fueling stations, fleet facilities (including automotive, freight, rail and marine), and similar entities with equivalent capital investments, as well as fuel/biodiesel terminal operations, midstream operations, and heating oil distribution facilities or equivalent entities.

Applicants must include all proposed activity under a single application. Applicants must own or have the legal right to control all site locations included in their application. Applicants may apply for and will only receive funding associated with implementation activities for one or more transportation fueling facilities or one or more fuel distribution facilities. Applications including combinations of transportation fueling facility implementation activities and fuel distribution facilities implementation activities are ineligible. Application requirements and other important information is available on the HBIIP web page: https://www.rd.usda.gov/hbiip.

Zach Ducheneaux,
Executive Vice President, Commodity Credit Corporation.
Karama Neal,
Administrator, Rural Business-Cooperative Service.

[FR Doc. 2022-24797 Filed 11-14-22; 8:45 am]

BILLING CODE 3410-15-P